DEPARTMENT OF ENERGY

Federal Energy Regulatory Commission

Combined Notice of Filings

Take notice that the Commission has received the following Natural Gas Pipeline Rate and Refund Report filings:

Filings Instituting Proceedings

Docket Numbers: RP22-696-000.

Applicants: Trailblazer Pipeline Company LLC.

Description: § 4(d) Rate Filing: TPC 2022-03-11 Fuel and L&U Reimbursement and Power Cost Tracker to be effective 5/1/2022.

Filed Date: 3/11/22.

Accession Number: 20220311-5101.

Comment Date: 5 p.m. ET 3/23/22.

Docket Numbers: RP22-697-000.

Applicants: Columbia Gulf Transmission, LLC.

Description: § 4(d) Rate Filing: Sabine Pass Interim NRA Amendment to be effective 3/11/2022.

Filed Date: 3/11/22.

Accession Number: 20220311-5125.

Comment Date: 5 p.m. ET 3/23/22.

Docket Numbers: RP22-698-000.

Applicants: Empire Pipeline, Inc.

Description: § 4(d) Rate Filing: Empire Rate Tracker (Tracking Supply Period 2 Rates) to be effective 4/1/2022.

Filed Date: 3/11/22.

Accession Number: 20220311-5162.

Comment Date: 5 p.m. ET 3/23/22.

Docket Numbers: RP22-699-000.

Applicants: National Grid LNG LLC.

Description: Petition for Limited Waiver of National Grid LNG, LLC.

Filed Date: 3/11/22.

Accession Number: 20220311-5197.

Comment Date: 5 p.m. ET 3/16/22.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 14, 2022.
Kimberly D. Bose,
Secretary.

[FR Doc. 2022-05762 Filed 3-17-22; 8:45 am]

BILLING CODE 6717-01-P